DEPARTMENT OF AGRICULTURE

Grain Inspection, Packers and Stockyards Administration

[01-04-S]

Designation for the Georgia, Mid-Iowa (IA), Montana, Oregon, and Schneider (IN) Areas

AGENCY: Grain Inspection, Packers and Stockyards Administration (GIPSA).

ACTION: Notice.

SUMMARY: GIPSA announces designation of the following organizations to provide official services under the United States Grain Standards Act, as amended (Act):

Georgia Department of Agriculture (Georgia);

Mid-Iowa Grain Inspection, Inc. (Mid-Iowa);

Montana Department of Agriculture (Montana);

Oregon Department of Agriculture (Oregon); and

Schneider Inspection Service, Inc. (Schneider).

EFFECTIVE DATES: July 1, 2002.

ADDRESSES: USDA, GIPSA, Janet M. Hart, Chief, Review Branch, Compliance Division, STOP 3604, Room 1647-S, 1400 Independence Avenue, SW, Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the December 4, 2001, Federal Register (66 FR 63015), GIPSA asked persons interested in providing official services in the geographic areas assigned to the official agencies named above to submit an application for designation. Applications were due by January 2, 2002.

Georgia, Mid-Iowa, Montana, Oregon, and Schneider were the sole applicants for designation to provide official services in the entire area currently assigned to them, so GIPSA did not ask for additional comments on them.

GIPSA evaluated all available information regarding the designation criteria in section 7(f)(l)(A) of the Act and, according to Section 7(f)(l)(B), determined that Georgia, Mid-Iowa, Montana, Oregon, and Schneider are able to provide official services in the geographic areas specified in the December 4, 2001, Federal Register, for which they applied. Interested persons may obtain official services by calling the telephone numbers listed below.

Official agency | Headquarters location and telephone | Designation start-end
Georgia | Atlanta, GA, 404-656-3600; Additional Service Location: Tifton, GA | 07/01/2002-06/30/2005
Mid-Iowa | Cedar Rapids, IA, 319-363-0239; Additional Service Location: Clayton, IA | 07/01/2002-06/30/2005
Montana | Helena, MT, 406-444-3144; Additional Service Location: Great Falls | 07/01/2002-06/30/2005
Oregon | Salem, OR, 503-986-4620; Additional Service Location: Pendleton, OR | 07/01/2002-06/30/2005
Schneider | Lake Village, IN, 219-992-2306 | 07/01/2002-06/30/2005

Authority: Pub. L. 94-582, 90 Stat. 2867, as amended (7 U.S.C. 71 et seq.).

Dated: May 8, 2002.
David R. Shipman,
Deputy Administrator, Grain Inspection, Packers and Stockyards Administration.

[FR Doc. 02-13784 Filed 5-31-02; 8:45 am]

BILLING CODE 3410-EN-P